SECURITIES AND EXCHANGE COMMISSION

Agency Meeting

Federal Register Citation of Previous Announcement: [To be published]

Status: Open Meeting.

Place: 100 F. Street, NE., Washington, DC.

Date and Time of Previously Announced Meeting: September 15, 2010.

Change In the Meeting: Room Change.

The Joint Public Roundtable on Swap Execution Facilities and Security-Based Swap Execution scheduled for Wednesday, September 15, 2010 at 9 a.m. will be held in the Multi-Purpose Room (Room L-006).

At times, changes in Commission priorities require alterations in the scheduling of meeting items. For further information and to ascertain what, if any, matters have been added, deleted or postponed, please contact:

The Office of the Secretary at (202) 551-5400.

Dated: September 13, 2010.
Elizabeth M. Murphy,
Secretary.

[FR Doc. 2010-23169 Filed 9-15-10; 8:45 am]

BILLING CODE 8010-01-P